DEPARTMENT OF HOMELAND SECURITY

Coast Guard

33 CFR Part 117

[CGD05-07-061]

RIN 1625-AA-09

Drawbridge Operation Regulations; Delaware River, between Tacony, PA, and Palmyra, NJ

AGENCY: Coast Guard, DHS.

ACTION: Notice of temporary deviation from regulations.

SUMMARY: The Commander, Fifth Coast Guard District, has approved a temporary deviation from the regulations governing the operation of the Tacony-Palmyra Bridge, at mile 107.2, across Delaware River, between Tacony, PA, and Palmyra, NJ. This deviation allows the drawbridge to remain closed-to-navigation from 6 a.m. on July 9 until and including 10 p.m. on July 11, 2007, and from 6 a.m. on July 16 until and including 10 p.m. on July 18, 2007, to facilitate electrical repairs.

DATES: This deviation is effective from 6 a.m. on July 9, 2007, to 10 p.m. on July 18, 2007.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Waverly W. Gregory, Jr., Bridge Administrator, Fifth Coast Guard District, at (757) 398-6222.

SUPPLEMENTARY INFORMATION: The Tacony-Palmyra Bridge, a lift drawbridge, has a vertical clearance in the closed position to vessels of 50 feet, above mean high water.

Carr & Duff, Inc., on behalf of the bridge owner the Burlington County Bridge Commission, has requested a temporary deviation from the current operating regulations set out in 33 CFR 117.5 and 117.716 to close the drawbridge to navigation to facilitate the replacement of submarine cable termination boxes on the drawbridge.

To facilitate the submarine cable replacement, the Tacony-Palmyra Bridge will be maintained in the closed-to-navigation position from 6 a.m. on Monday, July 9 until and including 10 p.m. on Wednesday, July 11, 2007, and from 6 a.m. on Monday, July 16 until and including 10 p.m. on Wednesday, July 18, 2007.

This deviation from the operating regulations is authorized under 33 CFR 117.35.

Dated: June 11, 2007.
Waverly W. Gregory, Jr.,
Chief, Bridge Administration, Branch Fifth Coast Guard District.

[FR Doc. E7-11955 Filed 6-19-07; 8:45 am]

BILLING CODE 4910-15-P